DEPARTMENT OF THE INTERIOR

National Park Service

[NPS-WASO-NAGPRA-NPS0038225; PPWOCRADN0-PCU00RP14.R50000]

Notice of Intended Repatriation: Bryn Mawr College, Bryn Mawr, PA

AGENCY: National Park Service, Interior.

ACTION: Notice.

SUMMARY: In accordance with the Native American Graves Protection and Repatriation Act (NAGPRA), Bryn Mawr College intends to repatriate certain cultural items that meet the definition of unassociated funerary objects and that have a cultural affiliation with the Indian Tribes or Native Hawaiian organizations in this notice.

DATES: Repatriation of the cultural items in this notice may occur on or after August 12, 2024.

ADDRESSES: Marianne Weldon, Bryn Mawr College, 101 N Merion Avenue, Bryn Mawr, PA 19010, telephone (610) 526-5022, email mweldon@brynmawr.edu.

SUPPLEMENTARY INFORMATION: This notice is published as part of the National Park Service's administrative responsibilities under NAGPRA. The determinations in this notice are the sole responsibility of Bryn Mawr College, and additional information on the determinations in this notice, including the results of consultation, can be found in the summary or related records. The National Park Service is not responsible for the determinations in this notice.

Abstract of Information Available

A total of 218 cultural items have been requested for repatriation. The 218 unassociated funerary objects are adzes, axes, bannerstones, beads, Bodkin knives, celts, celts or axes, celts or chisels, chisels, discoidals, drills, earthenware pipes, gorgets, net sinkers, net sinkers or hammerstones, notched disks, notched stones or sinkers, pendants, pestles, pipes, plummets, projectile points, a string of beads, worked pebbles, a notched stone with sinkers, an adze or axe, an axe or pick, a biface blade knife, a bird effigy pipe bowl fragment, a bowl, a chisel or gouge, an effigy of a fish, an effigy pipe, a gorget fragment, a gorget or effigy, a gouge, a graver or auger, a hammerstone, a hand axe, a knife or scraper, a necklace, a notched slab, a pebble bead, a pebble chipped for axe or sinker, a pendant or partial gorget, a pendant or sinker, a point or scraper, a sherd, a sinew stone, a stone bead, and a stone tool. These cultural items were removed from Massachusetts, New Jersey, New York, Pennsylvania, and the Delaware Water Gap. In 1882, William Sansom Vaux bequeathed a collection to the Academy of Natural Sciences (ANS), and ANS accessioned them on June 27, 1912. In 1961, ANS loaned approximately 3,000 items to Bryn Mawr College, including the items described in this notice. In 1997, the ANS board voted to transfer control of the items to Bryn Mawr College, and in 1998, it executed the paperwork.

Determinations

Bryn Mawr College has determined that:

• The 218 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Delaware Nation, Oklahoma; Delaware Tribe of Indians; and the Stockbridge Munsee Community, Wisconsin.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 12, 2024. If competing requests for repatriation are received, Bryn Mawr College must determine the most appropriate requestor prior to repatriation. Requests for joint repatriation of the cultural items are considered a single request and not competing requests. Bryn Mawr College is responsible for sending a copy of this notice to the Indian Tribes and Native Hawaiian organizations identified in this notice and to any other consulting parties.

Authority: Native American Graves Protection and Repatriation Act, 25 U.S.C. 3004 and the implementing regulations, 43 CFR 10.9.

Dated: June 26, 2024.
Melanie O'Brien,
Manager, National NAGPRA Program.

[FR Doc. 2024-15203 Filed 7-10-24; 8:45 am]

BILLING CODE 4312-52-P